DEPARTMENT OF JUSTICE

Notice of Lodging of Second Amendment to First Amended Consent Decree Under the Clean Water Act

Notice is hereby given that on May 31, 2012, a proposed Second Amendment to First Amended Consent Decree (“Amendment”) in United States and State of Georgia v. City of Atlanta, Civil Action No. 1:98-CV-1956-TWT, was lodged with the United States District Court for the Northern District of Georgia.

In this action the United States, on behalf of the U.S. Environmental Protection Agency (“U.S. EPA”), and the State of Georgia, at the request of Environmental Protection Division (“EPD”) sought penalties and injunctive relief under the Clean Water Act (“CWA”) against the City of Atlanta (“Defendant”) relating to Defendant's wastewater treatment facilities and the Defendant's wastewater collection and transmission system. The complaint alleged that Defendant violated the CWA, 33 U.S.C. 1251 et seq., and the Georgia Water Quality Control Act, O.C.G.A. § 12-5-21 et seq. (“GWQCA”). On December 22, 1999, the Court entered the First Amended Consent Decree (“Decree”), resolving the allegations in the complaint regarding the Defendant's wastewater treatment facilities and Defendant's collection and transmission system. On April 28, 2003, the Court entered Amendments to the Decree to allow the substitution of certain projects required under the Decree.

Defendant satisfied obligations under the Section VII Decree and the Court terminated the Decree on March 31, 2004 as to those obligations. Defendant has completed the majority of the work requirements of the Decree and has made substantial reductions in the total volume of sewage overflows. In order to comply with the requirements of the Decree, the Defendant has raised water and sewer rates by 252% over the past ten years. In addition, a 1% municipal option sales tax within the boundaries of the City of Atlanta has been imposed to contribute to the financing of the City's obligations under the Decree.

Despite the Defendant's efforts and the increase in financing to support those efforts, the Defendant requested a thirteen year extension of the schedule set forth in the Decree to complete the remaining work, due to the financial circumstances the Defendant is facing. The Plaintiffs evaluated the Defendant's financial information and model and the financial condition the Defendant is facing and determined that, based on all of the circumstances, the Defendant's request for an extension was reasonable.

Documents relative to the Decree, including the proposed Amendment, can be accessed at www.cleanwateratlanta.org. See, specifically, City of Atlanta, First Amended Consent Decree, 1:98-CV-1956-TWT, Financial Capability-Based Amendment & Schedule Extension Request. Further information pertaining to the Defendant's water system can be accessed at www.atlantawatershed.org.

The Department of Justice will receive for a period of thirty (30) days from the date of this publication comments relating to the Amendment. Comments should be addressed to the Assistant Attorney General, Environment and Natural Resources Division, P.O. Box 7611, U.S. Department of Justice, Washington, DC 20044-7611, and either emailed to pubcomment-ees.enrd@usdoj.gov or mailed to P.O. Box 7611, U.S. Department of Justice, Washington, DC 20044-7611, and should refer to United States and State of Georgia v. City of Atlanta, D.J. Ref. 90-5-1-1-4430. During the public comment period, the Amendment may also be examined on the following Department of Justice Web site, http://www.usdoj.gov/enrd/Consent_Decrees.html. A copy of the Amendment may also be obtained by mail from the Consent Decree Library, P.O. Box 7611, U.S. Department of Justice, Washington, DC 20044-7611 or by faxing or emailing a request to “Second Amendment to First Amended Consent Decree Copy” (EESCDCopy.ENRD@usdoj.gov), fax no. (202) 514-0097, phone confirmation number (202) 514-5271. In requesting a copy from the Consent Decree Library, please enclose a check in the amount of $4.750 (25 cents per page reproduction cost) payable to the U.S. Treasury or, if by email or fax, forward a check in that amount to the Consent Decree Library at the stated address.

Henry Friedman,
Assistant Section Chief, Environmental Enforcement Section, Environment and Natural Resources Division.

[FR Doc. 2012-13827 Filed 6-6-12; 8:45 am]

BILLING CODE 4410-15-P